ENVIRONMENTAL PROTECTION AGENCY

[ER-FRL-9028-9]

Environmental Impact Statements; Notice of Availability

Responsible Agency: Office of Federal Activities, General Information (202) 564-7146 or http://www.epa.gov/nepa.

Weekly receipt of Environmental Impact Statements (EISs)

Filed 08/29/2016 Through 09/02/2016

Pursuant to 40 CFR 1506.9.

Notice: Section 309(a) of the Clean Air Act requires that EPA make public its comments on EISs issued by other Federal agencies. EPA's comment letters on EISs are available at: http://www.epa.gov/compliance/nepa/eisdata.html.

EIS No. 20160201, Final Supplement, NRC, IL, Generic—License Renewal on Nuclear Plants, Supplement 57, Regarding LaSalle County Station, Units 1 and 2, Review Period Ends: 10/11/2016, Contact: William Ford 301-415-1263.

EIS No. 20160202, Final, NPS, WY, Moose-Wilson Corridor Final Comprehensive Management Plan, Review Period Ends: 10/11/2016, Contact: Daniel Noon 307-739-3465.

EIS No. 20160203, Final, FERC, OH, Leach XPress and Rayne XPress Expansion Projects, Review Period Ends: 10/11/2016, Contact: Juan Polit 202-502-8652.

EIS No. 20160204, Final, USFS, BLM, ID, Rasmussen Valley Mine, Review Period Ends: 10/11/2016, Contact: Bill Volk 208-236-7503.

The U.S. Department of Agriculture's Forest Service and the U.S. Department of the Interior's Bureau of Land Management are joint lead agencies for the above project.

EIS No. 20160205, Draft Supplement, USACE, WV, Bluestone Dam Safety Modification, Comment Period Ends: 10/24/2016, Contact: Rebecca Rutherford 304-304-5924.

Dated: September 6, 2016.
Dawn Roberts,
Management Analyst, NEPA Compliance Division, Office of Federal Activities.

[FR Doc. 2016-21769 Filed 9-8-16; 8:45 am]

BILLING CODE 6560-50-P